FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements (202) 523-5793 or tradeanalysis@fmc.gov).

Agreement No.: 201175-001.

Title: Port of NY/NJ Sustainable Services Agreement.

Parties: APM Terminals North America, Inc.; Global Terminal & Container Services LLC; Maher Terminals LLC; New York Container Terminal, Inc.; and Port Newark Container Terminal LLC.

Filing Party: Carol N. Lambos; The Lambos Firm; 29 Broadway 9th Floor; New York, NY 10006-3101.

Synopsis: The agreement deletes American Stevedoring, Inc. as a party to the agreement.

Dated: June 13, 2008.
By order of the Federal Maritime Commission.
Karen V. Gregory,
Assistant Secretary.

[FR Doc. E8-13774 Filed 6-17-08; 8:45 am]

BILLING CODE 6730-01-P